COMMISSION ON CIVIL RIGHTS

Sunshine Act Notice

AGENCY: United States Commission on Civil Rights.

ACTION: Notice of meeting.

Date and Time: Friday, July 13, 2007; 9:30 a.m.

Place: U.S. Commission on Civil Rights, 624 Ninth Street, NW., Rm. 540, Washington, DC 20425.

Meeting Agenda

I. Approval of Agenda

II. Approval of Minutes of June 1, Meeting

III. Announcements

IV. Staff Director's Report

V. Management and Operations

• 2009 Budget

VI. Program Planning

• Briefing Report on Racial Categorization in the Census

• Briefing Report on Educational Effectiveness of HBCUs

• FY 2007 Statutory Report

• Update: Briefing on Minorities in Foster Care and Adoption

VII. State Advisory Committee Issues

• Hawaii SAC

• Indiana SAC

• Pennsylvania SAC

• New Jersey SAC

VIII. Future Agenda Items

IX. Adjourn

FOR FURTHER INFORMATION CONTACT: Manuel Alba, Press and Communications (202) 376-8582.

Dated: July 2, 2007.
David Blackwood,
General Counsel.

[FR Doc. 07-3304 Filed 7-2-07; 3:37 pm]

BILLING CODE 6335-02-P